POSTAL REGULATORY COMMISSION

[Docket No. R2017-7; Order No. 4018]

Postal Rate and Classification Changes

AGENCY: Postal Regulatory Commission.

ACTION: Notice.

SUMMARY: The Commission is providing notice of its adjustment to the procedural schedule to allow for additional time to file comments regarding the Postal Service's filing amending prices and classification language for Move Update. This notice informs the public of the filing, invites public comment, and takes other administrative steps.

DATES: Comments are due August 9, 2017.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at (202) 789-6820.

SUPPLEMENTARY INFORMATION: On June 30, 2017, the Postal Service filed a notice of market dominant price adjustment and classification changes in accordance with 39 U.S.C. 3622 and 39 CFR part 3010.¹ On July 3, 2017, Order No. 3990 established the procedural schedule for this proceeding, including a comment deadline of July 20, 2017.² By rule, the Commission determines, at a minimum, whether the planned adjustment is consistent with the price cap 14 days following the comment deadline. See 39 CFR 3010.11(d). These dates are predicated on complete information being available for parties to comment on and the Commission to review. See, e.g., 39 CFR 3010.12(b)(3).³ This case represents a series of changes relating to the Move Update assessment charge, where complete information regarding the potential price cap impacts of the changes was not available with the Postal Service's initial filing, prompting several Chairman's Information Requests.⁴

¹ United States Postal Service Notice of Market Dominant Price Adjustment and Classification Changes, June 30, 2017 (Notice).

² Notice and Order on Price Adjustment for Move Update, July 3, 2017 (Order No. 3990). Comments for market dominant rate adjustments are due 20 days after the date of filing, pursuant to 39 CFR 3010.11(a)(5).

³ 39 CFR 3010.12(b)(3) requires that the Postal Service include with its notice of rate adjustment “{t}he percentage change in rates for each class of mail calculated as required by § 3010.23.” It further requires that this information “be supported by workpapers in which all calculations are shown and all input values, including current rates, new rates, and billing determinants, are listed with citations to the original sources.” Id. 39 CFR 3010.23(d)(2) requires that the Postal Service “make reasonable adjustments to the billing determinants to account for the effects of classification changes such as the introduction, deletion, or redefinition of rate cells.” 39 CFR 3010.23(d)(2). In making those adjustments, the Postal Service is required to “identify and explain all adjustments” and provide “{a}ll information and calculations relied upon to develop the adjustments . . . with an explanation of why the adjustments are appropriate.” Id.

⁴ The Postal Service proposes an increase to the Move Update assessment charge, an updated enforcement method for the charge, and a change to the threshold for its tolerance of change of address (COA) errors. Notice at 1; id. n.1. There have been five Chairman's Information Requests issued in this case: Chairman's Information Request No. 1, July 5, 2017; Chairman's Information Request No. 2, July 7, 2017 (CHIR No. 2); Chairman's Information Request No. 3, July 13, 2017 (CHIR No. 3); Chairman's Information Request No. 4, July 20, 2017 (CHIR No. 4); Chairman's Information Request No. 5, July 27, 2017.

Comments filed July 20, 2017, did not have the benefit of the Postal Service's responses to CHIR No. 3 or CHIR No. 4 (and had only one day to review and consider the Postal Service's response to CHIR No. 2). The Association for Postal Commerce notes that “a few elements in the Postal Service's filing, and in its proposed Move Update assessment process generally, . . . warrant further explanation.” ⁵

⁵ Comments of the Association for Postal Commerce, July 20, 2017, at 1 (PostCom Comments).

The Commission, due to the potential importance of this missing information to the issues of the proceeding (for both informed comments and the Commission's review), finds that commenters and its own review would be prejudiced without equitably tolling the time of filing (and deadlines set by that time of filing). Therefore, the Commission finds it necessary to constructively adjust (toll) the filing date for Postal Service's Notice to July 20, 2017, at which time the Postal Service had provided the bulk of the information necessary to evaluate the potential impacts of proposed changes in its Notice. As a result, commenters may file additional comments by August 9, 2017.⁶ Likewise, the date required by 39 CFR 3010.11(d) for the Commission's determination shall be August 23, 2017.

⁶ All comments received to date shall also be considered.

It is ordered:

1. Any additional comments are due by August 9, 2017.

2. The Commission's determination, pursuant to 39 CFR 3010.11(d) shall be filed by August 23, 2017.

3. The Secretary shall arrange for publication of this order in the Federal Register.

By the Commission.
Ruth Ann Abrams,
Acting Secretary.

[FR Doc. 2017-16199 Filed 8-1-17; 8:45 am]

BILLING CODE 7710-FW-P